DEPARTMENT OF COMMERCE

National Oceanic and Atmospheric Administration

RIN 0648-XC250

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Joint Advisory Panel and Plan Development Team, in October 2012, to consider actions affecting New England fisheries in the exclusive economic zone (EEZ). Recommendations from this group will be brought to the full Council for formal consideration and action, if appropriate.

DATES: This meeting will be held on Wednesday, October 10, 2012 at 9:30 a.m.

ADDRESSES: This meeting will be held at the Ashworth by the Sea, 295 Ocean Boulevard, Hampton, NH 03842; telephone: (603) 926-6762; fax: (603) 926-2002.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Habitat Advisory Panel and Plan Development Team will review and further develop alternatives for Omnibus Essential Fish Habitat Amendment 2. Related to gear modification options for Habitat Management Areas, they will discuss ground cable modification options in general and make a recommendation as to whether they should be developed further; discuss analytical considerations, including necessary assumptions and uncertainty; review the range of habitat management areas where gear modification management options are being considered by the Habitat Committee; and recommend a maximum ground cable length for each location. They will also discuss dedicated Habitat Research Areas, reviewing and refining updated proposals for specific areas and recommend them to the Habitat Committee, as appropriate. Other business may be discussed at their discretion.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: September 20, 2012.
Tracey L. Thompson,
Acting Deputy Director, Office of Sustainable Fisheries, National Marine Fisheries Service.

[FR Doc. 2012-23548 Filed 9-24-12; 8:45 am]

BILLING CODE 3510-22-P